DEPARTMENT OF HOMELAND SECURITY

Transportation Security Administration

[Docket No. TSA-2018-0001]

Request for Applicants for Appointment to the Surface Transportation Security Advisory Committee

AGENCY: Transportation Security Administration, DHS.

ACTION: Committee management; request for applicants.

SUMMARY: The Transportation Security Administration (TSA) is requesting applications from individuals who are interested in being appointed to serve on the Surface Transportation Security Advisory Committee (STSAC). All applicants must represent one of the constituencies specified below in order to be eligible for appointment. STSAC's mission is to provide advice, consultation, and recommendations to the TSA Administrator on improving surface transportation security matters, including developing, refining, and implementing policies, programs, initiatives, rulemakings, and security directives pertaining to surface transportation security, while adhering to sensitive security guidelines. The STSAC will consider risk-based approaches in the performance of its duties.

DATES: Applications for membership must be submitted to TSA using one of the methods in the ADDRESSES section below on or before August 9, 2021.

ADDRESSES: Applications must be submitted by one of the following means:

• Email: STSAC@tsa.dhs.gov.

• Mail: Judith Harroun-Lord, STSAC Designated Federal Officer, Transportation Security Administration (TSA-28), 6595 Springfield Center Drive, Springfield, VA 20596-6028.

See SUPPLEMENTARY INFORMATION for application requirements.

FOR FURTHER INFORMATION CONTACT: Judith Harroun-Lord, STSAC Designated Federal Officer, Transportation Security Administration (TSA-28), 6595 Springfield Center Drive, Springfield, VA 20596-6028, STSAC@tsa.dhs.gov, 571-227-2283.

SUPPLEMENTARY INFORMATION: The STSAC is an advisory Committee established pursuant to section 1969, Division K, TSA Modernization Act, of the FAA Reauthorization Act of 2018 (Pub. L. 115-254, 132 Stat. 3186, Oct. 5, 2018). The Committee is composed of individual members representing key constituencies affected by surface transportation security requirements.

Membership

The STSAC is composed of no more than 40 voting members from among stakeholders representing each mode of surface transportation, such as passenger rail, freight rail, mass transit, pipelines, highways, over-the-road bus, school bus industry, and trucking; and may include representatives from—

1. Associations representing such modes of surface transportation;

2. Labor organizations representing such modes of surface transportation;

3. Groups representing the users of such modes of surface transportation, including asset manufacturers, as appropriate;

4. Relevant law enforcement, first responders, and security experts; and

5. Such other groups as the Administrator considers appropriate.

The STSAC also includes nonvoting members, serving in an advisory capacity, who are designated by the TSA; the Department of Transportation; the Coast Guard; and such other Federal department or agency as the Administrator considers appropriate.

The STSAC does not have a specific number of members allocated to any membership category and the number of members in a category may change to fit the needs of the Committee, but each organization is represented by a minimum of one individual. Members serve as representatives and speak on behalf of their respective constituency group. Membership on the Committee is personal to the appointee and a member may not send an alternate to a Committee meeting. The members of the Committee shall not receive any compensation from the Government by reason of their service on the Committee.

Committee members are appointed by and serve at the pleasure of the Administrator of TSA for a term of two years but a voting member may continue to serve until the Administrator appoints a successor. TSA evaluates committee applicants to determine suitability, which includes a background check.

Committee Meetings

The Committee shall meet as frequently as deemed necessary by the Designated Federal Officer in consultation with the Chairperson, but no less than two (2) scheduled meetings each year. At least one meeting will be open to the public each year. Unless the Designated Federal Officer decides otherwise, meetings will be held in person or through web conferencing in the Washington, DC, metropolitan area.

In addition, STSAC members are expected to participate on STSAC subcommittees that normally meet more frequently to deliberate and discuss specific surface transportation matters.

Application for Advisory Committee Appointment

TSA is seeking applications for up to 5 members with specific expertise in the pipeline mode of surface transportation and cybersecurity across all surface transportation modes. Any person wishing to be considered for appointment to STSAC must provide the following:

• Complete professional resume.

• Statement of interest and reasons for application, including the membership category and how you represent a significant portion of that constituency, and also provide a brief explanation of how you can contribute to one or more TSA strategic initiative, based on your prior experience with TSA, or your review of current TSA strategic documents that can be found at www.tsa.gov/about/strategy.

• Home and work addresses, telephone number, and email address.

Please submit your application to the Designated Federal Officer in ADDRESSES noted above by August 9, 2021.

Dated: June 30, 2021.
Eddie D. Mayenschein,
Assistant Administrator, Policy, Plans, and Engagement.

[FR Doc. 2021-14517 Filed 7-7-21; 8:45 am]

BILLING CODE 9110-05-P